DEPARTMENT OF ENERGY

Federal Energy Regulatory Commission

Combined Notice of Filings

Take notice that the commission received the following accounting Request filings:

Docket Numbers: AC25-54-000.

Applicants: Guardian Pipeline, L.L.C.

Description: Guardian Pipeline, L.L.C. submits request for approval of certain adjustments to its deferred tax balances due to 100 percent acquisition of Guardian Pipeline, L.L.C. by DTM Interstate Transportation LLC, effective 12/31/2024.

Filed Date: 3/3/25.

Accession Number: 20250303-5290.

Comment Date: 5 p.m. ET 3/24/25.

Docket Numbers: AC25-55-000.

Applicants: Midwestern Gas Transmission Company.

Description: Midwestern Gas Transmission Company submits request for approval of certain adjustments to deferred tax balances due to 100 percent acquisition of Midwestern Gas Transmission Company by DTM Interstate Transportation LLC effective 12/31/2024.

Filed Date: 3/3/25.

Accession Number: 20250303-5291.

Comment Date: 5 p.m. ET 3/24/25.

Take notice that the Commission received the following Natural Gas Pipeline Rate and Refund Report filings:

Docket Numbers: PR25-40-000.

Applicants: Enable Oklahoma Intrastate Transmission, LLC.

Description: § 284.123 Rate Filing: SOC filing April 2025 to be effective 4/1/2025.

Filed Date: 2/28/25.

Accession Number: 20250228-5275.

Comment Date: 5 p.m. ET 3/21/25.

Docket Numbers: PR25-41-000.

Applicants: Bay Gas Storage Company, LLC.

Description: § 284.123 Rate Filing: Bay Gas Storage Annual Adjustment to Company Use Percentage to be effective 3/1/2025.

Filed Date: 2/28/25.

Accession Number: 20250228-5361.

Comment Date: 5 p.m. ET 3/21/25.

Docket Numbers: RP25-681-000.

Applicants: High Island Offshore System, L.L.C.

Description: Waiver Request of 2025 Annual Fuel Tracker filing of High Island Offshore System, LLC.

Filed Date: 2/28/25.

Accession Number: 20250228-5477.

Comment Date: 5 p.m. ET 3/12/25.

Docket Numbers: RP25-684-000.

Applicants: Mountain Valley Pipeline, LLC.

Description: § 4(d) Rate Filing: Negotiated Rate Capacity Release Agreements—3/1/2025 to be effective 3/1/2025.

Filed Date: 3/3/25.

Accession Number: 20250303-5155.

Comment Date: 5 p.m. ET 3/17/25.

Docket Numbers: RP25-685-000.

Applicants: Equitrans, L.P.

Description: § 4(d) Rate Filing: Negotiated Rate Capacity Release Agreement—3/1/2025 to be effective 3/1/2025.

Filed Date: 3/3/25.

Accession Number: 20250303-5157.

Comment Date: 5 p.m. ET 3/17/25.

Docket Numbers: RP25-686-000.

Applicants: High Point Gas Transmission, LLC.

Description: Compliance filing: High Point Gas Annual Fuel Adjustment Filing to be effective N/A.

Filed Date: 3/3/25.

Accession Number: 20250303-5218.

Comment Date: 5 p.m. ET 3/17/25.

Docket Numbers: RP25-687-000.

Applicants: Cheniere Corpus Christi Pipeline, L.P.

Description: Annual Operational Transactions Report of Cheniere Corpus Christi Pipeline, L.P.

Filed Date: 3/3/25.

Accession Number: 20250303-5258.

Comment Date: 5 p.m. ET 3/17/25.

Docket Numbers: RP25-688-000.

Applicants: Cheniere Creole Trail Pipeline, L.P.

Description: Annual Operational Transactions Report of Cheniere Creole Trail Pipeline, L.P.

Filed Date: 3/3/25.

Accession Number: 20250303-5259.

Comment Date: 5 p.m. ET 3/17/25.

Docket Numbers: RP25-689-000.

Applicants: Rover Pipeline LLC.

Description: § 4(d) Rate Filing: Summary of Negotiated Rate Capacity Release Agreements 3-4-2025 to be effective 3/1/2025.

Filed Date: 3/4/25.

Accession Number: 20250304-5039.

Comment Date: 5 p.m. ET 3/17/25.

Docket Numbers: RP25-690-000.

Applicants: Texas Gas Transmission, LLC.

Description: Compliance filing: OFO Penalty Waiver Request to be effective N/A.

Filed Date: 3/4/25.

Accession Number: 20250304-5083.

Comment Date: 5 p.m. ET 3/17/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR19-42-001.

Applicants: Arkansas Oklahoma Gas Corporation.

Description: Request for Limited, Temporary Rate Filing Waiver of Arkansas Oklahoma Gas Corporation.

Filed Date: 2/28/25.

Accession Number: 20250228-5277.

Comment Date: 5 p.m. ET 3/21/25.

Docket Numbers: RP25-522-001.

Applicants: Wyckoff Gas Storage Company, LLC.

Description: Compliance filing: Amended Order No. 587-AA Compliance Filing (RP25-522-) to be effective 8/1/2025.

Filed Date: 3/4/25.

Accession Number: 20250304-5007.

Comment Date: 5 p.m. ET 3/17/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 4, 2025.
Carlos D. Clay,
Deputy Secretary.

[FR Doc. 2025-03788 Filed 3-7-25; 8:45 am]

BILLING CODE 6717-01-P